ENVIRONMENTAL PROTECTION AGENCY

[EPA-HQ-OECA-2013-0019, 0301-0302, 0310, 0313-0314, 0316, 0318, 0329, 0331-0342, 0345-0346; FRL-9819-4]

Proposed Information Collection Request; Comment Request; See Item Specific ICR Titles Provided in the Text

AGENCY: Environmental Protection Agency (EPA).

ACTION: Notice.

SUMMARY: The Environmental Protection Agency is planning to submit an information collection request (ICR) (See item specific ICR title, EPA ICR Number, and OMB Control Number provided in the text) to the Office of Management and Budget (OMB) for review and approval in accordance with the Paperwork Reduction Act (44 U.S.C. 3501 et seq.). Before doing so, EPA is soliciting public comments on specific aspects of the proposed information collection as described below. This is a proposed extension of the ICR, see expiration date for each ICR provided in the text. An Agency may not conduct or sponsor and a person is not required to respond to a collection of information unless it displays a currently valid OMB control number.

DATES: Comments must be submitted on or before August 5, 2013.

ADDRESSES: Submit your comments, referencing the Docket ID numbers provided for each item in the text, online using www.regulations.gov (our preferred method), by email to docket.oeca@epa.gov, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Learia Williams, Compliance Assessment and Media Programs Division, Office of Compliance, Mail Code 2227A, Environmental Protection Agency, 1200 Pennsylvania Ave. NW., Washington, DC 20460; telephone number: (202) 564-4113; fax number: (202) 564-0050; email address: williams.learia@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

(1) Docket ID Number: EPA-HQ-OECA-2013-0337; Title: NESHAP for Portland Cement (40 CFR Part 63, Subpart LLL); ICR Numbers: EPA ICR Number 1801.12, OMB Control Number 2060-0416; ICR Status: This ICR is scheduled to expire on October 31, 2013.

Abstract: The NESHAP for Portland Cement (40 CFR Part 63, Subpart LLL) were proposed June 16, 2008, promulgated September 9, 2010, and amended January 18, 2011. Owners or operators of the affected facilities must submit a one-time-only report of any physical or operational changes, initial performance tests, and periodic reports and results. Owners or operators are also required to maintain records of the occurrence and duration of any startup, shutdown, or malfunction in the operation of an affected facility, or any period during which the monitoring system is inoperative. Reports are required semiannually at a minimum.

Form Numbers: None.

Respondents/affected entities: Owners or operators of any existing or new facility engaged in portland cement manufacturing.

Respondent's obligation to respond: mandatory (40 CFR part 63, subpart LLL).

Estimated number of respondents: 87 (total).

Frequency of response: Semiannually.

Total estimated burden: 643 hours (per year). Burden is defined at 5 CFR 1320.03(b).

Total estimated cost: $182,182 (per year), includes $120,155 annualized capital or operation & maintenance costs.

Changes in Estimates: There is an increase of hours in the total estimated respondent burden compared with the ICR currently approved by OMB. The increase in burden is primarily due to the additional recordkeeping and reporting costs attributable to the final amendments. Additionally, there is an increase in burden costs due to an adjustment in labor rates.

(2) Docket ID Number: EPA-HQ-OECA-2013-0338; Title: NESHAP for the Manufacture of Amino/Phenolic Resins (40 CFR Part 63, Subpart OOO); ICR Numbers: EPA ICR Number 1869.07, OMB Control Number 2060-0434; ICR Status: This ICR is scheduled to expire on October 31, 2013.

Abstract: The NESHAP for the Manufacture of Amino/Phenolic Resins were proposed on December 14, 1998, and promulgated on January 20, 2000. The affected entities are subject to the General Provisions of the NESHAP at 40 CFR part 63, subpart A, and any changes, or additions to the Provisions specified at 40 CFR part 63, subpart KKKK. Owners or operators of the affected facilities must submit a one-time-only report of any physical or operational changes, initial performance tests, and periodic reports and results. Owners or operators are also required to maintain records of the occurrence and duration of any startup, shutdown, or malfunction in the operation of an affected facility, or any period during which the monitoring system is inoperative. Reports are required semiannually at a minimum.

Form Numbers: None.

Respondents/affected entities: Amino/phenolic resins manufacturing facilities.

Respondent's obligation to respond: mandatory (40 CFR part 63, subpart OOO).

Estimated number of respondents: 40 (total).

Frequency of response: Initially, occasionally, quarterly, semiannually, and annually.

Total estimated burden: 24,044 hours (per year). Burden is defined at 5 CFR 1320.03(b).

Total estimated cost: $2,290,320 (per year), includes $16,000 annualized capital or operation & maintenance costs.

Changes in Estimates: There is no change in the respondent labor hours in this ICR compared to the previous ICR. This is due to two considerations: (1) The regulations have not changed over the past three years, are not anticipated to change over the next three years; and (2) the growth rate for the respondents is very low, negative or non-existent. Therefore, the labor hours in the previous ICR reflect the current burden to the respondents and are reiterated in this ICR. However, there is an increase in burden costs due to an adjustment in labor rates.

(3) Docket ID Number: EPA-HQ-OECA-2013-0336; Title: NESHAP for Off-Site Waste and Recovery Operations (40 CFR Part 63, Subpart DD); ICR Numbers: EPA ICR Number 1717.08, OMB Control Number 2060-0313; ICR Status: This ICR is scheduled to expire on October 31, 2013.

Abstract: The NESHAP for Off-Site Waste and Recovery Operations were proposed on October 13, 1994, and promulgated on July 1, 1996. The affected entities are subject to the General Provisions of the NESHAP at 40 CFR part 63, subpart A, and any changes, or additions to the Provisions specified at 40 CFR part 63, subpart DD. Owners or operators of the affected facilities must submit a one-time-only report of any physical or operational changes, initial performance tests, and periodic reports and results. Owners or operators are also required to maintain records of the occurrence and duration of any startup, shutdown, or malfunction in the operation of an affected facility, or any period during which the monitoring system is inoperative. Reports are required semiannually at a minimum.

Form Numbers: None.

Respondents/affected entities: Offsite waste and recovery operations.

Respondent's obligation to respond: mandatory (40 CFR part 63, subpart DD).

Estimated number of respondents: 236 (total).

Frequency of response: Initially, occasionally, and semiannually.

Total estimated burden: 155,212 hours (per year). Burden is defined at 5 CFR 1320.03(b).

Total estimated cost: $14,686,728 (per year), includes $5,360 annualized capital or operation & maintenance costs.

Changes in Estimates: There is no change in the respondent labor hours in this ICR compared to the previous ICR. This is due to two considerations: (1) the regulations have not changed over the past three years, and are not anticipated to change over the next three years; and (2) the growth rate for the respondents is very low, negative or non-existent. Therefore, the labor hours in the previous ICR reflect the current burden to the respondents and are reiterated in this ICR. However, there is an increase in burden costs due to an adjustment in labor rates.

(4) Docket ID Number: EPA-HQ-OECA-2013-0345; Title: NESHAP for Metal Can Manufacturing Surface Coating (40 CFR Part 63, Subpart KKKK); ICR Numbers: EPA ICR Number 2079.05, OMB Control Number 2060-0541; ICR Status: This ICR is scheduled to expire on October 31, 2013.

Abstract: The affected entities are subject to the General Provisions of the NESHAP for Metal Can Manufacturing Surface Coating at 40 CFR part 63, subpart A, and any changes, or additions, to the Provisions specified at 40 CFR part 63, subpart KKKK. Owners or operators of the affected facilities must submit a one-time-only report of any physical or operational changes, initial performance tests, and periodic reports and results. Owners or operators are also required to maintain records of the occurrence and duration of any startup, shutdown, or malfunction in the operation of an affected facility, or any period during which the monitoring system is inoperative. Reports are required semiannually at a minimum.

Form Numbers: None.

Respondents/affected entities: Metal can manufacturing surface coating.

Respondent's obligation to respond: mandatory (40 CFR part 63, subpart KKKK).

Estimated number of respondents: 71 (total).

Frequency of response: Initially, occasionally, and semiannually.

Total estimated burden: 27,517 hours (per year). Burden is defined at 5 CFR 1320.03(b).

Total estimated cost: $2,687,973 (per year), includes $85,200 annualized capital or operation & maintenance costs.

Changes in Estimates: There is no change in the labor hours in this ICR compared to the previous ICR. This is due to two considerations: (1) the regulations have not changed over the past three years and are not anticipated to change over the next three years; and (2) the growth rate for the respondents is very low, negative or non-existent. Therefore, the labor hours in the previous ICR reflect the current burden to the respondents and are reiterated in this ICR. However, there is an increase in burden costs due to an adjustment in labor rates.

(5) Docket ID Number: EPA-HQ-OECA-2013-0334; Title: NSPS for Secondary Brass and Bronze Production (40 CFR Part 60, Subpart M), Primary Copper Smelters (40 CFR Part 60, Subpart P), Primary Zinc Smelters (40 CFR Part 60, Subpart Q), Primary Lead Smelters (40 CFR Part 60, Subpart R), Primary Aluminum Reduction Plants (40 CFR Part 60, Subpart S), and Ferroalloy Production Facilities (40 CFR Part 60, Subpart Z); ICR Numbers: EPA ICR Number 1604.10, OMB Control Number 2060-0110; ICR Status: This ICR is scheduled to expire on October 31, 2013.

Abstract: The affected entities are subject to the General Provisions of the NSPS at 40 CFR part 60, subpart A and any changes, or additions to the Provisions specified at 40 CFR part 60, subparts M, P, Q, R, S and Z. Owners or operators of the affected facilities must make an initial notification, performance tests, periodic reports, and maintain records of the occurrence and duration of any startup, shutdown, or malfunction in the operation of an affected facility, or any period during which the monitoring system is inoperative. Reports are required semiannually at a minimum.

Form Numbers: None.

Respondents/affected entities: Owners or operators of secondary brass and bronze production facilities, primary copper smelters, primary zinc smelters, primary lead smelters, primary aluminum reduction plants, and ferroalloy production facilities.

Respondent's obligation to respond: mandatory (40 CFR part 60, subpart M, P, Q, R, S, and Z).

Estimated number of respondents: 18 (total).

Frequency of response: Initially, occasionally, semiannually, and annually.

Total estimated burden: 4,923 hours (per year). Burden is defined at 5 CFR 1320.03(b).

Total estimated cost: $597,254 (per year), includes $131,600 annualized capital or operation & maintenance costs.

Changes in Estimates: There is no change in the labor hours in this ICR compared to the previous ICR. This is due to two considerations: (1) the regulations have not changed over the past three years and are not anticipated to change over the next three years; and (2) the growth rate for the respondents is very low, negative or non-existent. Therefore, the labor hours in the previous ICR reflect the current burden to the respondents and are reiterated in this ICR. However, there is an increase in burden costs due to an adjustment in labor rates.

(6) Docket ID Number: EPA-HQ-OECA-2013-0339; Title: NESHAP for Boat Manufacturing (40 CFR Part 63, Subpart VVVV); ICR Numbers: EPA ICR Number 1966.05, OMB Control Number 2060-0546; ICR Status: This ICR is scheduled to expire on October 31, 2013.

Abstract: The NESHAP for Boat Manufacturing (40 CFR Part 63, Subpart VVVV) covers resin and gel coat operations at fiberglass boat manufacturers, paint and coating operations at aluminum boat manufacturers, and carpet and fabric adhesive operations at all boat manufacturers. Owners or operators of boat manufacturing facilities are required to submit initial notification, performance tests, and periodic reports. Respondents are also required to maintain records of the occurrence and duration of any startup, shutdown, or malfunction in the operation of an affected facility, or any period during which the monitoring system is inoperative. Semiannual reports are also required. These notifications, reports, and records are essential in determining compliance; and are required, in general, of all sources subject to NESHAP.

Form Numbers: None.

Respondents/affected entities: Boat manufacturing.

Respondent's obligation to respond: mandatory (40 CFR part 63, subpart VVVV).

Estimated number of respondents: 144 (total).

Frequency of response: Initially, quarterly, and semiannually.

Total estimated burden: 23,543 hours (per year). Burden is defined at 5 CFR 1320.03(b).

Total estimated cost: $2,227,693 (per year), includes $800 annualized capital or operation & maintenance costs.

Changes in Estimates: There is no change in the labor hours in this ICR compared to the previous ICR. This is due to two considerations: (1) the regulations have not changed over the past three years and are not anticipated to change over the next three years; and (2) the growth rate for the respondents is very low, negative or non-existent. Therefore, the labor hours in the previous ICR reflect the current burden to the respondents and are reiterated in this ICR. However, there is an increase in burden costs due to an adjustment in labor rates.

(7) Docket ID Number: EPA-HQ-OECA-2013-0341; Title: NESHAP for Plywood and Composite Products (40 CFR Parts 63, Subpart DDDD and Part 429); ICR Numbers: EPA ICR Number 1984.05, OMB Control Number 2060-0552; ICR Status: This ICR is scheduled to expire on October 31, 2013.

Abstract: The NESHAP for Plywood and Composite Products covers both new and existing plywood and composite wood products (PCWP) facilities. Plywood and composite products include, but are not limited to plywood, veneer, particleboard, oriented strand board, hardboard, fiberboard, medium density fiberboard, laminated strand lumber, laminated veneer lumber, wood I-joists, kiln-dried lumber and glue-laminated beams. Owners/operators of plywood and composite products facilities are required to submit initial notification, performance tests, and compliance status reports. Also, respondents are required to maintain records of the occurrence and duration of any startup, shutdown, or malfunction in the operation of an affected facility, or any period during which the monitoring system is inoperative. Semiannual reports are required.

Form Numbers: None.

Respondents/affected entities: Plywood and composite products.

Respondent's obligation to respond: mandatory (40 CFR part 63, subpart DDDD and part 429).

Estimated number of respondents: 228 (total).

Frequency of response: Initially and semiannually.

Total estimated burden: 11,680 hours (per year). Burden is defined at 5 CFR 1320.03(b).

Total estimated cost: $1,120,813 (per year), includes $15,960 annualized capital or operation & maintenance costs.

Changes in Estimates: There is no change in the labor hours in this ICR compared to the previous ICR. This is due to two considerations: (1) the regulations have not changed over the past three years and are not anticipated to change over the next three years; and (2) the growth rate for the respondents is very low, negative or non-existent. Therefore, the labor hours in the previous ICR reflect the current burden to the respondents and are reiterated in this ICR. However, there is an increase in burden costs due to an adjustment in labor rates.

(8) Docket ID Number: EPA-HQ-OECA-2013-0340; Title: NESHAP for Stationary Reciprocating Internal Combustion Engines (40 CFR Part 63, Subpart ZZZZ); ICR Numbers: EPA ICR Number 1975.09, OMB Control Number 2060-0548; ICR Status: This ICR is scheduled to expire on November 30, 2013.

Abstract: The respondents to this information collection are owners or operators of existing spark ignition (SI) engines that have a site rating of less than or equal to 500 brake hp and located at major sources of hazardous air pollutants (HAP) and existing stationary SI engines located at area sources of HAP emissions. The information is requested by the Agency to determine compliance with the rule. The information will then be used by enforcement agencies to verify that sources subject to the standards are meeting the emission reductions mandated by the Clean Air Act (CAA). Other sizes/types of stationary reciprocating internal combustion engines (RICE) have been regulated under previous actions. Thus, this final action fulfills the requirements of section 112 of the CAA, which requires EPA to promulgate standards for stationary RICE, by adding requirements for the remaining engines.

Form Numbers: None.

Respondents/affected entities: Owners or operators of existing stationary SI RICE.

Respondent's obligation to respond: mandatory (40 CFR part 63, subpart ZZZZ).

Estimated number of respondents: 62,167 (total).

Frequency of response: Initially and semiannually.

Total estimated burden: 967,246 hours (per year). Burden is defined at 5 CFR 1320.03(b).

Total estimated cost: $99,825,375 (per year), includes $13,828,278 annualized capital or operation & maintenance costs.

Changes in Estimates: There is an expected decrease in the overall burden for this ICR as compared to the previous ICR. The previous ICR accounted for the burden associated with the 2010 final rule. This ICR accounts for the burden associated with on-going compliance after the initial three-year period.

(9) Docket ID Number: EPA-HQ-OECA-2013-0318; Title: NSPS for Magnetic Tape Coating Facilities (40 CFR Part 60, Subpart SSS); ICR Numbers: EPA ICR Number 1135.11, OMB Control Number 2060-0170; ICR Status: This ICR is scheduled to expire on November 30, 2013.

Abstract: The NSPS for the Magnetic Tape Coating Facilities (40 CFR part 60, subpart SSS) were proposed on January 22, 1986, and promulgated on October 3, 1988. The affected entities are subject to the General Provisions of the NSPS at 40 CFR part 60, subpart A and any changes, or additions to the Provisions specified at 40 CFR part 60, subpart SSS. Owners or operators of the affected facilities must make an initial notification, performance tests, periodic reports, and maintain records of the occurrence and duration of any startup, shutdown, or malfunction in the operation of an affected facility, or any period during which the monitoring system is inoperative. Reports are required semiannually at a minimum.

Form Numbers: None.

Respondents/affected entities: Magnetic tape coating facilities.

Respondent's obligation to respond: mandatory (40 CFR part 60, subpart SSS).

Estimated number of respondents: 6 (total).

Frequency of response: Initially, occasionally, quarterly, and semiannually.

Total estimated burden: 2,017 hours (per year). Burden is defined at 5 CFR 1320.03(b).

Total estimated cost: $277,224 (per year), includes $86,400 annualized capital or operation & maintenance costs.

Changes in Estimates: There is no change in the labor hours in this ICR compared to the previous ICR. This is due to two considerations: (1) The regulations have not changed over the past three years and are not anticipated to change over the next three years; and (2) the growth rate for the respondents is very low, negative or non-existent. Therefore, the labor hours in the previous ICR reflect the current burden to the respondents and are reiterated in this ICR. However, there is an increase in burden costs due to an adjustment in labor rates.

(10) Docket ID Number: EPA-HQ-OECA-2013-0313; Title: NSPS for Stationary Gas Turbines (40 CFR Part 60, Subpart GG); ICR Numbers: EPA ICR Number 1071.11, OMB Control Number 2060-0028; ICR Status: This ICR is scheduled to expire on December 31, 2013.

Abstract: The NSPS for Stationary Gas Turbines were proposed on October 3, 1977, and promulgated on September 10, 1979. Owners and operators of stationary gas turbines must submit a one-time-only notification of construction/reconstruction, modification, and startup date, initial performance test date, physical or operational changes, and demonstration of a continuous monitoring system. They also must provide a report on initial performance test result, monitoring results, and any excess emissions. Records must be maintained of: startups, shutdowns, and malfunctions; periods when the continuous monitoring system is inoperative; sulfur and nitrogen content of the fuel; fuel to water ratio; rate of fuel consumption; and ambient conditions. Semiannual reports are also required.

Form Numbers: None.

Respondents/affected entities: Stationary gas turbines.

Respondent's obligation to respond: mandatory (40 CFR part 60, subpart GG).

Estimated number of respondents: 535 (total).

Frequency of response: Initially and semiannually.

Total estimated burden: 68,447 hours (per year). Burden is defined at 5 CFR 1320.03(b).

Total estimated cost: $6,474,328 (per year), includes $0 annualized capital or operation & maintenance costs.

Changes in Estimates: There is no change in the labor hours in this ICR compared to the previous ICR. This is due to two considerations: (1) The regulations have not changed over the past three years and are not anticipated to change over the next three years; and (2) the growth rate for the respondents is very low, negative or non-existent. Therefore, the labor hours in the previous ICR reflect the current burden to the respondents and are reiterated in this ICR. However, there is an increase in burden costs due to an adjustment in labor rates.

(11) Docket ID Number: EPA-HQ-OECA-2013-0335; Title: NESHAP for Aerospace Manufacturing and Rework Facilities (40 CFR Part 63, Subpart GG); ICR Numbers: EPA ICR Number 1687.09, OMB Control Number 2060-0314; ICR Status: This ICR is scheduled to expire on December 31, 2013.

Abstract: Respondents are owners or operators of aerospace manufacturing and rework operations. Respondents must submit one-time reports of initial performance tests and semiannual reports of noncompliance. Record keeping and parameters related to air pollution control technologies is required. The reports and records will be used to demonstrate compliance with the standards.

Form Numbers: None.

Respondents/affected entities: Aerospace manufacturing and rework facilities.

Respondent's obligation to respond: mandatory (40 CFR part 63, subpart GG).

Estimated number of respondents: 136 (total).

Frequency of response: Initially, semiannually, and occasionally.

Total estimated burden: 141,010 hours (per year). Burden is defined at 5 CFR 1320.03(b).

Total estimated cost: $13,430,729 (per year), includes $136,000 annualized capital or operation & maintenance costs.

Changes in Estimates: There is no change in the labor hours in this ICR compared to the previous ICR. This is due to two considerations: (1) The regulations have not changed over the past three years and are not anticipated to change over the next three years; and (2) the growth rate for the respondents is very low, negative or non-existent. Therefore, the labor hours in the previous ICR reflect the current burden to the respondents and are reiterated in this ICR. However, there is an increase in burden costs due to an adjustment in labor rates.

(12) Docket ID Number: EPA-HQ-OECA-2013-0333; Title: Standards of Performance for Air Emission Standards for Tanks, Surface Impoundments and Containers (40 CFR Part 264, Subpart CC and 40 CFR Part 265, Subpart CC); ICR Numbers: EPA ICR Number 1593.09, OMB Control Number 2060-0318; ICR Status: This ICR is scheduled to expire on December 31, 2013.

Abstract: This ICR renewal is being submitted for the Air Emission Standards for Tanks, Surface Impoundments and Containers (40 CFR Part 264, Subpart CC and 40 CFR Part 265, Subpart CC), which were promulgated on December 6, 1994. The requirements of this subpart apply to owners and operators of all facilities that treat, store, or dispose of hazardous wastes in tanks, surface impoundments and containers that are subject to subparts I, J or K of these parts, except for Sections 264.1 and 265.1 and those management units identified at Sections 264.1080(b) and 265.1080(b). Also, the requirements of this subpart apply to large quantity generators that manage hazardous wastes in either tanks, or containers (262.34(a)(1)(i and ii)). The affected entities are subject to the General Provisions of the NSPS at 40 CFR part 60, subpart A and any changes, or additions to the General Provisions specified at 40 CFR part 264, subpart CC and 40 CFR part 265, subpart CC.

Form Numbers: None.

Respondents/affected entities: Tanks, surface impoundments and containers.

Respondent's obligation to respond: mandatory (40 CFR part 264, subpart CC and 40 CFR part 265, subpart CC).

Estimated number of respondents: 6,209 (total).

Frequency of response: Occasionally, annually, and semiannually.

Total estimated burden: 711,400 hours (per year). Burden is defined at 5 CFR 1320.03(b).

Total estimated cost: $80,708,869 (per year), includes $12,418,000 annualized capital or operation & maintenance costs.

Changes in Estimates: There is no change in the labor hours in this ICR compared to the previous ICR. This is due to two considerations: (1) the regulations have not changed over the past three years and are not anticipated to change over the next three years; and (2) the growth rate for the respondents is very low, negative or non-existent. Therefore, the labor hours in the previous ICR reflect the current burden to the respondents and are reiterated in this ICR. However, there is an increase in burden costs due to an adjustment in labor rates.

(13) Docket ID Number: EPA-HQ-OECA-2013-0346; Title: NESHAP for Acrylic/Modacrylic Fibers Production, Carbon Black Production, Chemical Mfg: Chromium Compounds, Flexible Polyurethane Foam Production/Fabrication, Lead Acid Battery Manufacturing, Wood Preserving (40 CFR Part 63, Subparts LLLLLL, MMMMMM, NNNNNN, OOOOOO, PPPPPP, and QQQQQQ); ICR Numbers: EPA ICR Number 2256.04, OMB Control Number 2060-0598; ICR Status: This ICR is scheduled to expire on December 31, 2013.

Abstract: EPA is finalizing six national emission standards for hazardous air pollutants (NESHAP) for seven area source categories. The proposed requirements for two area source categories (Flexible Polyurethane Foam Production and Flexible Polyurethane Foam Fabrication) are combined in one subpart. The standards include emissions limitations and work practice requirements for new and existing plants based on the generally available control technology or management practices (GACT) for each area source category. Potential respondents include one existing acrylic and modacrylic production facility, two existing chromium product manufacturing facilities, 500 existing flexible polyurethane foam production and fabrication facilities, 60 existing lead acid battery manufacturing facilities, and 393 existing wood preserving facilities. The total annual responses attributable to this ICR for existing sources are two one-time notifications; some existing facilities may be required to prepare a startup, shutdown, and malfunction plan, perform additional monitoring and recordkeeping, and/or conduct an initial performance test. The owner or operator of a new area source would be required to comply with all requirements of the General Provisions (40 CFR part 63, subpart A). No burden estimates are provided for new area sources because no new facilities are expected during the next 3 years.

Form Numbers: None.

Respondents/affected entities: Acrylic and Modacrylic Fibers Production, Carbon Black Production, Chemical Manufacturing: Chromium Compounds, Flexible Polyurethane Foam Production and Fabrication, Lead Acid Battery Manufacturing, and Wood Preserving

Respondent's obligation to respond: mandatory (40 CFR part 63, subparts LLLLLL, MMMMMM, NNNNNN, OOOOOO, PPPPPP, and QQQQQQ).

Estimated number of respondents: 319 (total).

Frequency of response: Initially, semiannually, and occasionally.

Total estimated burden: 4,233 hours (per year). Burden is defined at 5 CFR 1320.03(b).

Total estimated cost: $399,523 (per year), includes no annualized capital or operation & maintenance costs.

Changes in Estimates: There is no change in the labor hours in this ICR compared to the previous ICR as the growth rate for the respondents is very low, negative or non-existent. Therefore, the labor hours in the previous ICR reflect the current burden to the respondents and are reiterated in this ICR. However, there is an increase in burden costs due to an adjustment in labor rates.

(14) Docket ID Number: EPA-HQ-OECA-2013-0331; Title: NSPS for New Residential Wood Heaters (40 CFR Part 60, Subpart AAA); ICR Numbers: EPA ICR Number 1176.11, OMB Control Number 2060-0160; ICR Status: This ICR is scheduled to expire on January 31, 2014.

Abstract: Manufacturers and accredited laboratories are required to make several one-time and periodic reports necessary for the implementation and enforcement of the rule. Also, laboratories, manufacturers, distributors and retailers are required to retain certain records.

Form Numbers: None.

Respondents/affected entities: New residential wood heaters.

Respondent's obligation to respond: mandatory (40 CFR part 60, subpart AAA).

Estimated number of respondents: 934 (total).

Frequency of response: Occasionally.

Total estimated burden: 9,729 hours (per year). Burden is defined at 5 CFR 1320.03(b).

Total estimated cost: $2,260,853 (per year), includes $1,348,000 annualized capital or operation & maintenance costs.

Changes in Estimates: There is an expected increase in the total burden to reflect additional burden associated with the recent amendment. In addition, the burden associated with ongoing compliance with the rule is expected to differ from those during the initial three-year period. Therefore, the overall burden hours and costs differ as compared to the previous ICR.

(15) Docket ID Number: EPA-HQ-OECA-2013-0019; Title: NSPS for Electric Utility Steam Generating Units (40 CFR Part 60, Subpart Da); ICR Numbers: EPA ICR Number 1053.11, OMB Control Number 2060-0023; ICR Status: This ICR is scheduled to expire on March 31, 2014.

Abstract: The affected entities are subject to the General Provisions of the NESHAP at 40 CFR part 60, subpart A, and any changes, or additions to the Provisions specified at 40 CFR part 60, subpart Da. Owners or operators of the affected facilities must submit a one-time-only report of any physical or operational changes, initial performance tests, and periodic reports and results. Owners or operators are also required to maintain records of the occurrence and duration of any startup, shutdown, or malfunction in the operation of an affected facility, or any period during which the monitoring system is inoperative. Reports are required semiannually at a minimum.

Form Numbers: None.

Respondents/affected entities: Owners or operators of electric utility steam generating units.

Respondent's obligation to respond: mandatory (40 CFR part 60, subpart Da).

Estimated number of respondents: 667 (total).

Frequency of response: Initially, quarterly and semiannually.

Total estimated burden: 160,839 hours (per year). Burden is defined at 5 CFR 1320.03(b).

Total estimated cost: $27,445,813 (per year), includes $12,355,000 annualized capital or operation & maintenance costs.

Changes in Estimates: There is an increase in both respondent and Agency burden costs from the most recently approved ICR is due to an adjustment in the number of new or modified sources, and in the labor rates.

(16) Docket ID Number: EPA-HQ-OECA-2013-0310; Title: NSPS for Sewage Sludge Treatment Plants (40 CFR Part 60, Subpart O); ICR Numbers: EPA ICR Number 1063.12, OMB Control Number 2060-0035; ICR Status: This ICR is scheduled to expire on March 31, 2014.

Abstract: The affected entities are subject to the General Provisions of the NSPS at 40 CFR part 60, subpart A and any changes, or additions to the Provisions specified at 40 CFR part 60, subpart O. Owners or operators of the affected facilities must make an initial notification, performance tests, periodic reports, and maintain records of the occurrence and duration of any startup, shutdown, or malfunction in the operation of an affected facility, or any period during which the monitoring system is inoperative. Reports are required semiannually at a minimum.

Form Numbers: None.

Respondents/affected entities: Sewage sludge treatment plant incinerators.

Respondent's obligation to respond: mandatory (40 CFR part 60, subpart O).

Estimated number of respondents: 112 (total).

Frequency of response: Initially, occasionally, and semiannually.

Total estimated burden: 12,464 hours (per year). Burden is defined at 5 CFR 1320.03(b).

Total estimated cost: $5,138,948 (per year), includes $3,960,000 annualized capital or operation & maintenance costs.

Changes in Estimates: There is an increase in both respondent and Agency burden costs from the most recently approved ICR is due to an adjustment in the number of new or modified sources, and also an adjustment in labor rates.

(17) Docket ID Number: EPA-HQ-OECA-2013-0301; Title: NESHAP for Beryllium (40 CFR Part 61, Subpart C); ICR Numbers: EPA ICR Number 0193.11, OMB Control Number 2060-0092; ICR Status: This ICR is scheduled to expire on March 31, 2014.

Abstract: The sources subject to this rule (i.e., extraction plants, ceramic plants, foundries, incinerators, propellant plants and machine shops which process beryllium and its derivatives) complying with the one-time only stack test, would be required to submit initial notifications and a one-time report with the emission limit determination. The sources complying with the alternative ambient air quality limit by operating a continuous monitor in the vicinity of the affected facility are required to submit a monthly report of all measured concentrations. Records shall be retained for two years.

Form Numbers: None.

Respondents/affected entities: Beryllium.

Respondent's obligation to respond: mandatory (40 CFR part 61, subpart C).

Estimated number of respondents: 33 (total).

Frequency of response: Monthly, and on occasion.

Total estimated burden: 2,627 hours (per year). Burden is defined at 5 CFR 1320.03(b).

Total estimated cost: $281,442 (per year), includes $35,000 annualized capital or operation & maintenance costs.

Changes in Estimates: There is no change in the labor hours in this ICR compared to the previous ICR. This is due to two considerations: (1) The regulations have not changed over the past three years and are not anticipated to change over the next three years; and (2) the growth rate for the respondents is very low, negative or non-existent. Therefore, the labor hours in the previous ICR reflect the current burden to the respondents and are reiterated in this ICR. However, there is an increase in burden costs due to an adjustment in labor rates.

(18) Docket ID Number: EPA-HQ-OECA-2013-0302; Title: NSPS for Graphic Arts Industry (40 CFR Part 60, Subpart QQ); ICR Numbers: EPA ICR Number 0657.11, OMB Control Number 2060-0105; ICR Status: This ICR is scheduled to expire on March 31, 2014.

Abstract: The New Source Performance Standards (NSPS) for the Graphic Arts Industry (40 CFR part 60, subpart QQ) were proposed on October 28, 1980, and promulgated on November 8, 1982. The affected entities are subject to the General Provisions of the NSPS at 40 CFR part 60, subpart A and any changes, or additions to the Provisions specified at 40 CFR part 60, subpart QQ. Owners or operators of the affected facilities must make an initial notification, performance tests, periodic reports, and maintain records of the occurrence and duration of any startup, shutdown, or malfunction in the operation of an affected facility, or any period during which the monitoring system is inoperative. Reports are required semiannually at a minimum.

Form Numbers: None.

Respondents/affected entities: Graphic arts facilities.

Respondent's obligation to respond: mandatory (40 CFR part 60, subpart QQ).

Estimated number of respondents: 19 (total).

Frequency of response: Initially, occasionally, and semiannually.

Total estimated burden: 1,718 hours (per year). Burden is defined at 5 CFR 1320.03(b).

Total estimated cost: $163,005 (per year), includes $0 annualized capital or operation & maintenance costs.

Changes in Estimates: There is an increase in both respondent and Agency burden costs from the most recently approved ICR is due to an adjustment in the number of new or modified sources, and an adjustment in labor rates.

(19) Docket ID Number: EPA-HQ-OECA-2013-0314; Title: NSPS for Phosphate Rock Plants (40 CFR Part 60, Subpart NN); ICR Numbers: EPA ICR Number 1078.10, OMB Control Number 2060-0111; ICR Status: This ICR is scheduled to expire on March 31, 2014.

Abstract: The affected entities are subject to the General Provisions of the NSPS at 40 CFR part 60, subpart A, and any changes, or additions to the Provisions specified at 40 CFR part 60, subpart NN. Owners or operators of the affected facilities must submit a one-time-only report of any physical or operational changes, initial performance tests, and periodic reports and results. Owners or operators are also required to maintain records of the occurrence and duration of any startup, shutdown, or malfunction in the operation of an affected facility, or any period during which the monitoring system is inoperative. Reports are required semiannually at a minimum.

Form Numbers: None.

Respondents/affected entities: Owners or operators of phosphate rock plants.

Respondent's obligation to respond: mandatory (40 CFR part 60, subpart NN).

Estimated number of respondents: 13 (total).

Frequency of response: Initially and semiannually.

Total estimated burden: 1,602 hours (per year). Burden is defined at 5 CFR 1320.03(b).

Total estimated cost: $274,536 (per year), includes $124,182 annualized capital or operation & maintenance costs.

Changes in Estimates: There is an increase in both respondent and Agency burden costs from the most recently approved ICR is due to an adjustment in the number of new or modified sources, and an adjustment in labor rates.

(20) Docket ID Number: EPA-HQ-OECA-2013-0316; Title: NSPS for Onshore Natural Gas Processing Plants (40 CFR Part 60, Subparts KKK and LLL); ICR Numbers: EPA ICR Number 1086.10, OMB Control Number 2060-0120; ICR Status: This ICR is scheduled to expire on March 31, 2014.

Abstract: The affected entities are subject to the General Provisions of the NESHAP at 40 CFR part 60, subpart A, and any changes, or additions to the Provisions specified at 40 CFR part 60, subparts KKK & LLL. Owners or operators of the affected facilities must submit a one-time-only report of any physical or operational changes, initial performance tests, and periodic reports and results. Owners or operators are also required to maintain records of the occurrence and duration of any startup, shutdown, or malfunction in the operation of an affected facility, or any period during which the monitoring system is inoperative. Reports are required semiannually at a minimum.

Form Numbers: None.

Respondents/affected entities: Owners or operators of onshore natural gas processing plants.

Respondent's obligation to respond: mandatory (40 CFR part 60, subparts KKK and LLL).

Estimated number of respondents: 563 (total).

Frequency of response: Initially, semiannually and occasionally.

Total estimated burden: 149,180 hours (per year). Burden is defined at 5 CFR 1320.03(b).

Total estimated cost: $14,335,639 (per year), includes $338,700 annualized capital or operation & maintenance costs.

Changes in Estimates: There is an increase in both respondent and Agency burden costs from the most recently approved ICR is due to an increase in the number of new or modified sources, and an adjustment in the labor rates.

(21) Docket ID Number: EPA-HQ-OECA-2013-0329; Title: NSPS for Rubber Tire Manufacturing (40 CFR Part 60, Subpart BBB); ICR Numbers: EPA ICR Number 1158.11, OMB Control Number 2060-0156; ICR Status: This ICR is scheduled to expire on March 31, 2014.

Abstract: Respondents are owners or operators of rubber tire manufacturing plants which include each under-tread cementing operation, each sidewall cementing operation, each tread end cementing operation, each bead cementing operating, each green tire spraying operation, each Michelin-A operation, each Michelin-B operation, and each Michelin-C automatic operation. The standards require the submission of notification when conducting performance tests and periodic reporting including semiannual reports of excess emissions and annual reports of Method 24 formulation data.

Form Numbers: None.

Respondents/affected entities: Rubber tire manufacturing.

Respondent's obligation to respond: Mandatory (40 CFR part 60, subpart BBB).

Estimated number of respondents: 41 (total).

Frequency of response: Initially, annually, and semiannually.

Total estimated burden: 13,323 hours (per year). Burden is defined at 5 CFR 1320.03(b).

Total estimated cost: $1,266,476 (per year), includes $16,400 annualized capital or operation & maintenance costs.

Changes in Estimates: There is no change in the labor hours in this ICR compared to the previous ICR. This is due to two considerations: (1) The regulations have not changed over the past three years and are not anticipated to change over the next three years; and (2) the growth rate for the respondents is very low, negative or non-existent. Therefore, the labor hours in the previous ICR reflect the current burden to the respondents and are reiterated in this ICR. However, there is an increase in burden costs due to an adjustment in labor rates.

(22) Docket ID Number: EPA-HQ-OECA-2013-0332; Title: NSPS for Small Industrial-Commercial-Institutional Steam Generating Units (40 CFR Part 60, Subpart Dc); ICR Numbers: EPA ICR Number 1564.09, OMB Control Number 2060-0202; ICR Status: This ICR is scheduled to expire on March 31, 2014.

Abstract: The affected entities are subject to the General Provisions of the NESHAP at 40 CFR part 60, subpart A, and any changes, or additions to the Provisions specified at 40 CFR part 60, subpart Dc. Owners or operators of the affected facilities must submit a one-time-only report of any physical or operational changes, initial performance tests, and periodic reports and results. Owners or operators are also required to maintain records of the occurrence and duration of any startup, shutdown, or malfunction in the operation of an affected facility, or any period during which the monitoring system is inoperative. Reports are required semiannually at a minimum.

Form Numbers: None.

Respondents/affected entities: Owners or operators of small industrial-commercial-institutional steam generating units.

Respondent's obligation to respond: mandatory (40 CFR part 60, subpart Dc).

Estimated number of respondents: 235 (total).

Frequency of response: Initially, semiannually and occasionally.

Total estimated burden: 159,972 hours (per year). Burden is defined at 5 CFR 1320.03(b).

Total estimated cost: $24,455,624 (per year), includes $9,446,145 annualized capital or operation & maintenance costs.

Changes in Estimates: There is an increase in both respondent and Agency burden costs from the most recently approved ICR is due to an increase in the number of new or modified sources, and an adjustment in labor rates.

(23) Docket ID Number: EPA-HQ-OECA-2013-0342; Title: NESHAP for Lime Manufacturing (40 CFR Part 63, Subpart AAAAA); ICR Numbers: EPA ICR Number 2072.05, OMB Control Number 2060-0544; ICR Status: This ICR is scheduled to expire on March 31, 2014.

Abstract: The affected entities are subject to the General Provisions of the NESHAP at 40 CFR part 63, subpart A, and any changes, or additions to the General Provisions specified at 40 CFR part 63, subpart AAAAA. Owners or operators of the affected facilities must submit a one-time-only report of any physical or operational changes, initial performance tests, and periodic reports and results. Owners or operators are also required to maintain records of the occurrence and duration of any startup, shutdown, or malfunction in the operation of an affected facility, or any period during which the monitoring system is inoperative. Reports are required semiannually at a minimum.

Form Numbers: None.

Respondents/affected entities: Lime manufacturing plants.

Respondent's obligation to respond: mandatory (40 CFR part 63, subpart AAAAA).

Estimated number of respondents: 62 (total).

Frequency of response: Initially, occasionally, and semiannually.

Total estimated burden: 14,723 hours (per year). Burden is defined at 5 CFR 1320.03(b).

Total estimated cost: $1,509,024 (per year), includes $124,408 annualized capital or operation & maintenance costs.

Changes in Estimates: There is an increase in both respondent and Agency burden costs from the most recently approved ICR is due to an increase in the number of new or modified sources and an adjustment in labor rates.

Dated: May 20, 2013.
Lisa C. Lund,
Director, Office of Compliance.

[FR Doc. 2013-13067 Filed 6-3-13; 8:45 am]

BILLING CODE 6560-50-P